DEPARTMENT OF ENERGY

Federal Energy Regulatory Commission

[Docket No. PR02-14-001]

Bridgeline Gas Distribution LLC; Notice Shortening Comment Period

August 4, 2003.

On July 17, 2003, Bridgeline Gas Distribution LLC filed an Offer of Settlement in the above-docketed proceeding. Included in its filing was a request to shorten the period for filing initial and reply comments in response to the Offer of Settlement. Since there were no protests filed in the docket and the Commission Staff supports the Settlement, we are shortening the date for filing initial comments to and including August 8, 2003. Reply comments should be filed on or before August 13, 2003.

Magalie R. Salas,
Secretary.

[FR Doc. 03-20454 Filed 8-8-03; 8:45 am]

BILLING CODE 6717-01-P